DEPARTMENT OF LABOR

Employment and Training Administration

[TA-W-65,306]

Product Action Internatinal, Princeton, IN; Notice of Termination of Investigation

Pursuant to Section 221 of the Trade Act of 1974, as amended, an investigation was initiated on February 19, 2009 in response to a worker petition filed on behalf of workers at Product Action International, Princeton, Indiana.

The petitioning group of workers is covered by an earlier petition (TA-W-65,283) filed on February 18, 2009 that is the subject of an ongoing investigation for which a determination has not yet been issued. Further investigation in this case would duplicate efforts and serve no purpose; therefore the investigation under this petition has been terminated.

Signed at Washington, DC, this 27th day of February 2009.
Richard Church,
Certifying Officer, Division of Trade Adjustment Assistance.

[FR Doc. E9-5189 Filed 3-10-09; 8:45 am]

BILLING CODE 4510-FN-P